DEPARTMENT OF EDUCATION

[Docket No.: ED-2024-SCC-0024]

Agency Information Collection Activities; Comment Request; Evaluation of the Toolkit To Support Evidence-Based Algebra Instruction in Middle and High School

AGENCY: Institute of Education Sciences (IES), Department of Education (ED).

ACTION: Notice.

SUMMARY: In accordance with the Paperwork Reduction Act (PRA) of 1995, the Department is proposing a new information collection request (ICR).

DATES: Interested persons are invited to submit comments on or before April 15, 2024.

ADDRESSES: To access and review all the documents related to the information collection listed in this notice, please use http://www.regulations.gov by searching the Docket ID number ED-2024-SCC-0024. Comments submitted in response to this notice should be submitted electronically through the Federal eRulemaking Portal at http://www.regulations.gov by selecting the Docket ID number or via postal mail, commercial delivery, or hand delivery. If the regulations.gov site is not available to the public for any reason, the Department will temporarily accept comments at ICDocketMgr@ed.gov. Please include the docket ID number and the title of the information collection request when requesting documents or submitting comments. Please note that comments submitted after the comment period will not be accepted. Written requests for information or comments submitted by postal mail or delivery should be addressed to the Manager of the Strategic Collections and Clearance Governance and Strategy Division, U.S. Department of Education, 400 Maryland Ave. SW, LBJ, Room 6W203, Washington, DC 20202-8240.

FOR FURTHER INFORMATION CONTACT: For specific questions related to collection activities, please contact Amy Johnson, (202) 453-7439.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. The Department is soliciting comments on the proposed information collection request (ICR) that is described below. The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Evaluation of the Toolkit to Support Evidence-Based Algebra Instruction in Middle and High School.

OMB Control Number: 1850-NEW.

Type of Review: New ICR.

Respondents/Affected Public: Individuals or Households.

Total Estimated Number of Annual Responses: 1,029.

Total Estimated Number of Annual Burden Hours: 348.

Abstract: The current authorization for the Regional Educational Laboratories (REL) program is under the Education Sciences Reform Act of 2002, Part D, Section 174, (20 U.S.C. 9564), administered by the Department of Education, Institute of Education Sciences (IES), National Center for Education Evaluation and Regional Assistance (NCEE). The central mission and primary function of the RELs is to support applied research and provide technical assistance to state and local education agencies within their region (ESRA, Part D, section 174[f]). The REL program's goal is to partner with educators and policymakers to conduct work that is change-oriented and supports meaningful local, regional, or state decisions about education policies, programs, and practices to improve outcomes for students.

Even prior to the COVID-19 pandemic, Algebra 1 proved challenging for many students because of the extensive abstract thinking it requires (Katz, 2007; Susa et al., 2014). To help students succeed in Algebra 1, REL Central is developing a toolkit of professional learning supports to help Algebra 1 teachers learn about, make sense of, plan for, and implement three evidence-based Algebra 1 teaching practices that were identified in the related What Works Clearinghouse (WWC) Practice Guide, “Teaching Strategies for Improving Algebra Knowledge in Middle and high School Students.” The toolkit contains the following three parts: (1) Initial Diagnostic and On-going Monitoring Instruments, (2) Professional Development Resources, and (3) Steps for Institutionalizing Supports for Evidence-Based Practice.

This study will assess whether implementing the toolkit improves teacher and student outcomes and will describe the implementation of the toolkit in study schools that use it. Using a school-level randomized controlled trial during the 2024-2025 school year, the study will estimate the impact of the toolkit on teachers' self-efficacy and their understanding and use of the promising practices, as well as on students' algebraic content knowledge, self-efficacy, and mathematical mindsets. To provide context for the impact estimates and inform future use of the toolkit, the study will also describe the implementation of the toolkit. The study plans to include 20 schools from up to three school districts. To disseminate these findings, REL Central will produce a report for school leaders and teachers who are potential users of the toolkit.

Dated: February 9, 2024.
Juliana Pearson,
PRA Coordinator, Strategic Collections and Clearance Governance and Strategy Division, Office of Chief Data Officer, Office of Planning, Evaluation and Policy Development.

[FR Doc. 2024-03067 Filed 2-13-24; 8:45 am]

BILLING CODE 4000-01-P